DEPARTMENT OF ENERGY

Federal Energy Regulatory Commission

[Docket No. RP03-289-000]

ANR Pipeline Company; Notice of Proposed Changes in FERC Gas Tariff

March 6, 2003.

Take notice that, on February 28, 2003, ANR Pipeline Company (ANR) tendered for filing as part of its FERC Gas Tariff, Second Revised Volume No. 1, Sixty-Seventh Revised Tariff Sheet No. 18, proposed to become effective March 1,003.

ANR states that the above-referenced tariff sheet is being filed to implement the annual reconciliation of the recovery of its Above-Market Dakota Costs, as required by its tariff recovery mechanism. ANR advises that the filing proposes a reservation surcharge adjustment of $0.012 applicable to its currently effective, firm service Rate Schedules. Pursuant to this surcharge, ANR proposes to recover, over the twelve month period of March 1, 2003 to February 29, 2004, the $645,001 of Above-Market Dakota Cost under collections, inclusive of interest, which are reflected in the filing.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-6031 Filed 3-12-03; 8:45 am]

BILLING CODE 6717-01-P